DEPARTMENT OF LABOR

Employment and Training Administration

[TA-W-51,580]

Plexus, San Diego, CA; Notice of Termination of Investigation

Pursuant to section 221 of the Trade Act of 1974, an investigation was initiated on February 24, 2003, in response to a worker petition filed on behalf of workers at Plexus, San Diego, California.

The petitioning group of workers is covered by an active certification issued on April 11, 2003 and which remains in effect (TA-W-51,003). Consequently, further investigation in this case would serve no purpose, and the investigation may be terminated.

Signed in Washington, DC, this 12th day of May, 2003.
Richard Church,
Certifying Officer, Division of Trade Adjustment Assistance.

[FR Doc. 03-13408 Filed 5-28-03; 8:45 am]

BILLING CODE 4510-30-P